DEPARTMENT OF HOMELAND SECURITY

Coast Guard

33 CFR Part 100

[Docket No. USCG-2024-0280]

Special Local Regulations; Conch Republic Navy Parade and Battle, Key West, FL

AGENCY: Coast Guard, DHS.

ACTION: Notice of enforcement of regulation.

SUMMARY: The Coast Guard will enforce the special local regulations for the Conch Republic Navy Parade and Battle, in Key West, Florida. Our regulation for Recurring Marine Events in Captain of the Port Key West Zone identifies the regulated area for this event. During the enforcement period, no person or vessel may enter, transit through, anchor in, or remain within the regulated area without approval from the Captain of the Port Key West or a designated representative.

DATES: The regulations in 33 CFR 100.701, Table 1, item (b)(2) will be enforced from 7 p.m. until 8 p.m. on April 26, 2024.

FOR FURTHER INFORMATION CONTACT: If you have questions about this notice, call or email MST2 Hayden Hunt, Sector Key West Waterways Management Department, Coast Guard; telephone (305) 292-8823, email Hayden.B.Hunt@uscg.mil.

SUPPLEMENTARY INFORMATION:

The Coast Guard will enforce the special local regulations in 33 CFR 100.701, from 7 p.m. until 8 p.m. on April 26, 2024 for the annual Great Sea Battle of the Conch Republic in Key West, Florida. This action is being taken to provide for the safety of life on the navigable waters of the Key West Harbor during the simulated battle event. Our regulation for Recurring Marine Events in Captain of the Port Key West Zone, § 100.701, Table 1, item (b)(2), specifies the location of the regulated area for the reenactment of the battle within the Key West Harbor.

During the enforcement period, no person or vessel may enter, transit through, anchor within, or remain within the established regulated areas without approval from the Captain of the Port Key West or designated representative. The Coast Guard may be assisted by other Federal, State, or local law enforcement agencies in enforcing this regulation.

In addition to this notice of enforcement in the Federal Register, the Coast Guard plans to provide notice of this enforcement period via the Local Notice to Mariners, Broadcast Notice to Mariners, and on-scene designated representatives.

Dated: April 8, 2024.
Jason D. Ingram,
Captain, U.S. Coast Guard, Captain of the Port Key West.

[FR Doc. 2024-07825 Filed 4-11-24; 8:45 am]

BILLING CODE 9110-04-P